DEPARTMENT OF ENERGY

Federal Energy Regulatory Commission

[Project Nos. 2942-005; 2931-002; 2941-002; 2932-003; and 2897-003]

S.D. Warren Company; Notice of Commission Staff's 10(j) Meeting With Representatives of the Fish and Wildlife Service

January 18, 2002.

The staff of the Office of Energy Projects, Federal Energy Regulatory Commission will hold a Section 10(j) meeting on Tuesday, February 19, 2002, at the Holiday Inn West, 81 Riverside Street, in the city of Portland, Maine. The meeting is scheduled to begin at 12:30 p.m. to end no later than 3 p.m.

The purpose of the meeting is to discuss and resolve with the Fish and Wildlife Service that agency's following two Section 10(j) recommendations for the relicensing of the Presumpscot River Projects.

(1) Maintain minimum flows in the bypassed reaches of the Dundee, Gambo, and Mallison Falls projects as follows: 57 cubic feet per second (cfs) year round at Dundee; 40 cfs year round at Gambo; and 63 cfs year round at Mallison Falls.

(2) Develop a detailed shoreline management plan for licensee-owned lands abutting project waters within 500 feet of the high water elevation that are determined to be needed for project-related purposes, such as fish and wildlife habitat protection, providing public access for recreation, or protecting sensitive, unique, or scenic areas.

Representatives of the licensee and the State of Maine's fish and wildlife agencies are encouraged to participate in meeting discussions; due to the nature of the 10(j) process, representatives of concerned non-governmental organizations and other interested persons are invited to attend the meeting as observers.

Linwood A. Watson, Jr.,
Acting Secretary.

[FR Doc. 02-1829 Filed 1-24-02; 8:45 am]

BILLING CODE 6717-01-P